DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Recording Assignments.

Form Number(s): PTO-1594, PTO-1595.

Agency Approval Number: 0651-0027.

Type of Request: Revision of a currently approved collection.

Burden: 181,695 hours annually.

Number of Respondents: 363,388 responses per year.

Avg. Hours Per Response: The USPTO estimates that it will take the public approximately 30 minutes (0.5 hours) to prepare and submit a patent or trademark assignment recordation request.

Needs and Uses: Under 35 U.S.C. 261 and 262 and 15 U.S.C. 1057 and 1060, the United States Patent and Trademark Office (USPTO) records patent and trademark assignment documents that show the transfer of ownership of applications, patents, and trademark registrations from one entity to another. The USPTO provides cover sheets to ensure all the necessary assignment data is submitted for accurate recording. In order to file a request to record an assignment, the respondent must submit an appropriate cover sheet along with copies of the assignment documents to be recorded and payment of the appropriate fee. The recorded documents are available for public inspection, except for those documents that are sealed under secrecy orders or related to unpublished patent applications.

Affected Public: Individuals or households; businesses or other for-profits; and not-for-profit institutions.

Frequency: On occasion.

Respondent's Obligation: Required to obtain or retain benefits.

OMB Desk Officer: David Rostker, (202) 395-3897.

Copies of the above information collection proposal can be obtained by any of the following methods:

E-mail: Susan.Fawcett@uspto.gov. Include “0651-0027 copy request” in the subject line of the message.

Fax: 571-273-0112, marked to the attention of Susan Fawcett.

Mail: Susan K. Fawcett, Records Officer, Office of the Chief Information Officer, Customer Information Services Group, Public Information Services Division, United States Patent and Trademark Office, P.O. Box 1450, Alexandria, VA 22313-1450.

Written comments and recommendations for the proposed information collection should be sent on or before May 7, 2008 to David Rostker, OMB Desk Officer, Room 10202, New Executive Office Building, 725 17th Street, NW., Washington, DC 20503.

Dated: April 1, 2008.
Susan K. Fawcett,
Records Officer, USPTO, Office of the Chief Information Officer, Customer Information Services Group, Public Information Services Division.

[FR Doc. E8-7171 Filed 4-4-08; 8:45 am]

BILLING CODE 3510-16-P